DEPARTMENT OF ENERGY

Federal Energy Regulatory Commission

Combined Notice of Filings #1

December 9, 2010.

Take notice that the Commission received the following electric rate filings:

Docket Numbers: ER07-1106-009; ER08-1255-003; ER08-1255-004; ER10-566-001; ER10-566-002.

Applicants: ArcLight Energy Marketing, LLC, Oak Creek Wind Power, LLC, Coso Geothermal Power Holdings, LLC.

Description: Supplement to Updated Market Power Analysis for Southwest Region of Coso Geothermal Power Holdings, LLC, et al.

Filed Date: 12/08/2010.

Accession Number: 20101208-5126.

Comment Date: 5 p.m. Eastern Time on Wednesday, December 29, 2010.

Docket Numbers: ER08-394-028.

Applicants: Midwest Independent Transmission System Operator, Inc.

Description: Report of Midwest Independent Transmission System Operator, Inc.

Filed Date: 12/08/2010.

Accession Number: 20101208-5203.

Comment Date: 5 p.m. Eastern Time on Wednesday, December 29, 2010.

Docket Numbers: ER08-394-029.

Applicants: Midwest Independent Transmission System Operator, Inc.

Description: Report of Midwest Independent System Transmission Operator, Inc.

Filed Date: 12/08/2010.

Accession Number: 20101208-5208.

Comment Date: 5 p.m. Eastern Time on Wednesday, December 29, 2010.

Docket Numbers: ER10-2728-001.

Applicants: Green Valley Hydro, LLC.

Description: Green Valley Hydro, LLC submits tariff filing per 35: Green Valley Hydro Compliance Filing to be effective 12/8/2010.

Filed Date: 12/08/2010.

Accession Number: 20101208-5144.

Comment Date: 5 p.m. Eastern Time on Wednesday, December 29, 2010.

Docket Numbers: ER10-2729-001.

Applicants: Buchanan Generation, LLC.

Description: Buchanan Generation, LLC submits tariff filing per 35: Buchanan Generation Compliance Filing to be effective 12/8/2010.

Filed Date: 12/08/2010.

Accession Number: 20101208-5143.

Comment Date: 5 p.m. Eastern Time on Wednesday, December 29, 2010.

Docket Numbers: ER10-2808-001.

Applicants: Freeport-McMoRan Copper & Gold Energy Services, LLC.

Description: Freeport-McMoRan Copper & Gold Energy Services, LLC submits tariff filing per 35: FMES Revisions to Baseline FERC Electric MBR Volume No. 1 to be effective 9/21/2010.

Filed Date: 12/09/2010.

Accession Number: 20101209-5060.

Comment Date: 5 p.m. Eastern Time on Thursday, December 30, 2010.

Docket Numbers: ER11-2029-001.

Applicants: Cedar Creek II, LLC.

Description: Cedar Creek II, LLC submits tariff filing per 35.17(b): MBR Application of Cedar Creek II, LLC to be effective 12/16/2010.

Filed Date: 12/08/2010.

Accession Number: 20101208-5169.

Comment Date: 5 p.m. Eastern Time on Wednesday, December 22, 2010.

Docket Numbers: ER11-2088-001.

Applicants: Border Energy Electric Services, Inc.

Description: Border Energy Electric Services, Inc. submits tariff filing per 35.17(b): Amendment to Filing of Border Energy Electric Services, Inc. to be effective 1/11/2011.

Filed Date: 12/08/2010.

Accession Number: 20101208-5132.

Comment Date: 5 p.m. Eastern Time on Wednesday, December 29, 2010.

Docket Numbers: ER11-2096-001.

Applicants: The Connecticut Light and Power Company.

Description: The Connecticut Light and Power Company submits a tariff filing per 35.17(b): Amended GenConn Localized Costs Responsibility Agreement to be effective 1/1/2011.

Filed Date: 12/08/2010.

Accession Number: 20101208-5112.

Comment Date: 5 p.m. Eastern Time on Wednesday, December 29, 2010.

Docket Numbers: ER11-2099-001.

Applicants: Public Service Company of New Hampshire.

Description: Public Service Company of New Hampshire submits tariff filing per 35.17(b): Amended Localized Costs Responsibility Agreement to be effective 1/1/2011.

Filed Date: 12/08/2010.

Accession Number: 20101208-5127.

Comment Date: 5 p.m. Eastern Time on Wednesday, December 29, 2010.

Docket Numbers: ER11-2100-001.

Applicants: Western Massachusetts Electric Company.

Description: Western Massachusetts Electric Company submits tariff filing per 35.17(b): Amended Localized Costs Responsibility Agreement to be effective 1/1/2011.

Filed Date: 12/08/2010.

Accession Number: 20101208-5155.

Comment Date: 5 p.m. Eastern Time on Wednesday, December 29, 2010.

Docket Numbers: ER11-2316-000.

Applicants: Southern California Edison Company.

Description: Southern California Edison Company submits tariff filing per 35.13(a)(2)(iii): LGIA Blythe Solar Power Project SA 97 to be effective 12/9/2010.

Filed Date: 12/08/2010.

Accession Number: 20101208-5157.

Comment Date: 5 p.m. Eastern Time on Wednesday, December 29, 2010.

Docket Numbers: ER11-2317-000.

Applicants: Southwest Power Pool, Inc.

Description: Southwest Power Pool, Inc. submits tariff filing per 35.13(a)(2)(iii): Formula Update—OG&E, NPPD, ITC, SPS, Westar to be effective 1/1/2011.

Filed Date: 12/08/2010.

Accession Number: 20101208-5158.

Comment Date: 5 p.m. Eastern Time on Wednesday, December 29, 2010.

Docket Numbers: ER11-2318-000.

Applicants: California Independent System Operator Corporation.

Description: California Independent System Operator Corporation submits tariff filing per 35.13(a)(2)(iii): 2010-12-08 CAISO's Service Agreement 1774, Non-Conforming LGIA to be effective 12/8/2010.

Filed Date: 12/08/2010.

Accession Number: 20101208-5175.

Comment Date: 5 p.m. Eastern Time on Wednesday, December 29, 2010.

Docket Numbers: ER11-2319-000.

Applicants: Idaho Power Company.

Description: Idaho Power Company SA 174 Notice of Termination Letter.

Filed Date: 12/08/2010.

Accession Number: 20101208-5202.

Comment Date: 5 p.m. Eastern Time on Wednesday, December 29, 2010.

Docket Numbers: ER11-2320-000.

Applicants: New York Independent System Operator, Inc.

Description: New York Independent System Operator, Inc. submits tariff filing per 35.13(a)(2)(iii): Service Agreement No. 1152 Niagara Mohawk and Lyonsdale to be effective 2/7/2010.

Filed Date: 12/09/2010.

Accession Number: 20101209-5037.

Comment Date: 5 p.m. Eastern Time on Thursday, December 30, 2010.

Docket Numbers: ER11-2321-000.

Applicants: Southern California Edison Company.

Description: Southern California Edison Company submits tariff filing per 35.13(a)(2)(iii): Revised Service Agreement for Wholesale Distribution Service SA No. 2 to be effective 2/8/2011.

Filed Date: 12/09/2010.

Accession Number: 20101209-5045.

Comment Date: 5 p.m. Eastern Time on Thursday, December 30, 2010.

Docket Numbers: ER11-2322-000.

Applicants: Southern California Edison Company.

Description: Southern California Edison Company submits tariff filing per 35.13(a)(2)(iii): LGIA Coram Brodie Wind Project SA 95 to be effective 12/10/2010.

Filed Date: 12/09/2010.

Accession Number: 20101209-5046.

Comment Date: 5 p.m. Eastern Time on Thursday, December 30, 2010.

Docket Numbers: ER11-2323-000.

Applicants: Athens Energy, LLC.

Description: Athens Energy, LLC submits tariff filing per 35.1: FERC Electric Tariff to be effective 12/9/2010.

Filed Date: 12/09/2010.

Accession Number: 20101209-5047.

Comment Date: 5 p.m. Eastern Time on Thursday, December 30, 2010.

Docket Numbers: ER11-2324-000.

Applicants: Kennebec River Energy, LLC.

Description: Kennebec River Energy, LLC submits tariff filing per 35.1: FERC Electric Tariff to be effective 12/9/2010.

Filed Date: 12/09/2010.

Accession Number: 20101209-5048.

Comment Date: 5 p.m. Eastern Time on Thursday, December 30, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-31842 Filed 12-17-10; 8:45 am]

BILLING CODE 6717-01-P